ENVIRONMENTAL PROTECTION AGENCY

[EPA-HQ-OECA-2014-0043; FRL-9918-63-OEI]

Information Collection Request Submitted to OMB for Review and Approval; Comment Request; NSPS for Polymeric Coating of Supporting Substrates Facilities (Renewal)

AGENCY: Environmental Protection Agency (EPA).

ACTION: Notice.

SUMMARY: The Environmental Protection Agency has submitted an information collection request (ICR), “NSPS for Polymeric Coating of Supporting Substrates Facilities (Renewal)” (EPA ICR No. 1284.10, OMB Control No. 2060-0181) to the Office of Management and Budget (OMB) for review and approval in accordance with the Paperwork Reduction Act (44 U.S.C. 3501 et seq.). This is a proposed extension of the ICR, which is currently approved through October 31, 2014. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 1, 2014.

ADDRESSES: Submit your comments, referencing Docket ID Number EPA-HQ-OECA-2014-0043, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Respondents are owners or operators of facilities performing polymeric coating of supporting substrates. NSPS Subpart VVV applies to each coating operation and any on-site mix preparation equipment used to prepare coating for the polymeric coating of supporting substrates, which commences construction, modification, or reconstruction after April 30, 1987. The rule establishes standards for VOC use, emission reduction limits, and capture and recovery of VOC emissions. The recordkeeping, monitoring, and reporting requirements allow the regulatory agencies to determine compliance with the standard.

Form Numbers: None.

Respondents/affected entities: Owners or operators of facilities performing polymeric coating of supporting substrates.

Respondent's obligation to respond: Mandatory (40 CFR part 60, Subpart VVV).

Estimated number of respondents: 59 (total).

Frequency of response: Initially, quarterly, and semiannually.

Total estimated burden: 13,667 hours (per year). Burden is defined at 5 CFR 1320.3(b).

Total estimated cost: $1,995,496 (per year), includes $657,500 annualized capital or operation & maintenance costs.

Changes in the Estimates: There is an adjustment increase in the total estimated burden, capital/startup, and O&M costs as currently identified in the OMB Inventory of Approved Burdens. This increase is due to industry growth and is not due to any program changes.

There is an apparent decrease in the Agency labor burden hours due to a summation error in the most recently approved ICR. This error resulted in the overestimation of Agency burden. EPA has identified and reconciled this discrepancy during the preparation of this ICR renewal, hence the apparent burden decrease.

Courtney Kerwin,
Acting Director, Collection Strategies Division.

[FR Doc. 2014-25754 Filed 10-29-14; 8:45 am]

BILLING CODE 6560-50-P